DEPARTMENT OF TRANSPORTATION

Federal Transit Administration

Transfer of Federally Assisted Facility

AGENCY: Federal Transit Administration (FTA), United States Department of Transportation (USDOT).

ACTION: Notice of Intent (NOI) to Transfer Federally-Assisted Land or facility.

SUMMARY: The Federal Transit Administration (FTA) is issuing this Notice to advise Federal agencies that the Central Puget Sound Regional Transit Authority (Sound Transit) intends to transfer the land portions of 20 parcels (Subject Properties) to the Seattle Office of Housing. Federal public transportation law delegated to the Federal Transit Administrator permits the Administrator of the Federal Transit Administration to authorize a recipient of FTA funds to transfer land or a facility to a public body for any public purpose with no further obligation to the Federal Government (the Government) if, among other things, no Federal agency is interested in acquiring the asset for Federal use.

DATES: Any Federal agency interested in acquiring the facility must notify the FTA Region X office of its interest no later than August 31, 2020.

ADDRESSES: Interested parties should notify the Regional Office by writing to Linda Gehrke, Regional Administrator, Federal Transit Administration, 915 Second Ave, Federal Building Suite 3142, Seattle, WA 98174-1002.

FOR FURTHER INFORMATION CONTACT: Mark Montgomery, Attorney-Advisor, (202) 366-1017.

SUPPLEMENTARY INFORMATION: Sound Transit used these locations as staging areas for light rail construction and to widen the street right-of-way. The parcels have been vacant for over ten years, and Sound Transit determined it no longer needs the land for public transportation purposes. The parcels are all located within Seattle Washington parcel locations are 4804 Martin Luther King (MLK) Jr Way S.; 4804 32nd Ave S; 4810 MLK Jr Way S.; 4851 MLK Jr Way S.; 4853 MLK Jr Way S.; 4859 MLK Jr Way S.; 4736 31st Ave S.; 4742 MLK Jr Way S.; 4733 MLK Jr Way S.; 4735 MLK Jr Way S.; 4741 MLK Jr Way S.; 4203 S. Kenyon St.; 7908 MLK Jr Way S.; 6740 MLK Jr Way S.; 3601 MLK Jr Way S.; 4865 MLK Jr Way S; 3112 S. Ferdinand St.; 3201 S. Ferdinand St.; 5042 MLK Jr Way S.; 6701 MLK Jr Way S.

Sound Transit requests FTA approval to transfer the Subject Properties to the City of Seattle's Office of Housing, if no Federal agency is interested in acquiring the asset for Federal use. The City of Seattle's Office of Housing has dedicated $11 million to work with affordable housing developers to convert the Subject Properties into approximately 200 permanently affordable housing units, as defined by Washington State's statute RCW 81.112.350. This transfer also would satisfy Sound Transit's statutory requirement to dispose or transfer surplus property to qualified entities to develop affordable housing.

Background

Federal public transportation law (49 U.S.C. 5334(h)) provides guidance on the transfer of capital assets. Specifically, if a recipient of FTA assistance decides an asset acquired with assistance under 49 U.S.C. Chapter 53 is no longer needed for the purpose for which it was acquired, the Secretary of Transportation may authorize the recipient to transfer the asset to a local governmental authority to be used for a public purpose with no further obligation to the Government. 49 U.S.C. 5334(h)(1).

Determinations

The FTA Administrator may authorize a transfer for a public purpose other than mass transportation only if the FTA Administrator decides:

(A) The asset will remain in public use for at least five (5) years after the date the asset is transferred;

(B) There is no purpose eligible for assistance under Chapter 53 of title 49, United States Code, for which the asset should be used;

(C) The overall benefit of allowing the transfer is greater than the interest of the Government in liquidation and return of the financial interest of the Government in the asset, after considering fair market value and other factors; and

(D) Through an appropriate screening or survey process, that there is no interest in acquiring the asset for Government use if the asset is a facility or land.

The FTA Administrator has determined that the above requirements (A), (B), and (C) have been met; this Notice is issued pursuant to requirement (D).

Federal Interest in Acquiring Land or Facility

This Notice implements the requirements of 49 U.S.C. 5334(h)(1)(D). Accordingly, FTA hereby provides notice of the availability of the Subject Properties further described below. Any Federal agency interested in acquiring the Subject Properties should promptly notify the FTA. If no Federal agency is interested in acquiring the Subject Properties, FTA will transfer the properties.

Additional Description of Land or Facility

The Subject Properties are currently vacant land. The Subject Properties are between 1,400- 14,000 square feet, each as follows: 4804 MLK Jr Way S. 4,275 sq ft; 4804 32nd Ave S. 3,556 sq ft; 4810 MLK Jr Way S. 2,961 sq ft; 4851 MLK Jr Way S. 2,184 sq ft; 4853 MLK Jr Way S. 1,744 sq ft; 4859 MLK Jr Way S. 4,631 sq ft; 4736 31st Ave S. 4,655 sq ft; 4742 MLK Jr Way S. 2,036 sq ft; 4733 MLK Jr Way S. 1,815 sq ft; 4735 MLK Jr Way S. 1,428 sq ft; 4741 MLK Jr Way S. 4,522 sq ft; 4203 S. Kenyon St. 4,526 sq ft; 7908 MLK Jr Way S. 5,892 sq ft; 6740 MLK Jr Way S. 8,439 sq ft; 3601 MLK Jr Way S. 13,164 sq ft; 4865 MLK Jr Way S 3,292 sq ft; 3112 S. Ferdinand St. 1,845 sq ft; 3201 S. Ferdinand St. 3,776 sq ft; 5042 MLK Jr Way S. 2,387 sq ft; 6701 MLK Jr Way S. 8,341 sq ft.

Authority: 49 U.S.C. 5334(h).

K. Jane Williams,
Acting Administrator.

[FR Doc. 2020-16553 Filed 7-30-20; 8:45 am]

BILLING CODE P